DEPARTMENT OF THE INTERIOR

Bureau of Land Management

[AK-1430-EU; A-033531, AA-086554]

Notice of Realty Action: Direct Sale of Reversionary Interest of Recreation and Public Purposes Patent; Eagle River, AK

AGENCY: Bureau of Land Management, Interior.

ACTION: Notice of Realty Action.

SUMMARY: Reversionary interest held by the United States in 3.9 acres of land located in Eagle River, Alaska, has been determined to be suitable for direct sale to the Corporation of Saint Andrew's Parish of the Archdiocese of Anchorage under the authority of Section 203 of the Federal Land Policy and Management Act of 1976 (90 Stat. 2750, 43 U.S.C. 1713) at not less than fair market value of $850,000.

DATES: Comments must be received by 45 days from the date of publication of this Notice in the Federal Register.

FOR FURTHER INFORMATION CONTACT: Robert Lloyd, BLM Anchorage Field Office, 6881 Abbott Loop Road, Anchorage, Alaska 99507, (907) 267-1246.

SUPPLEMENTARY INFORMATION: The lands, located in Eagle River, Alaska, are described as:

Seward Meridian

T. 14 N., R. 2 W.

Sec. 11, Lots 7 and 10 (3.9 acres).

The lands are currently owned by the Corporation of Saint Andrew's Parish of the Archdiocese of Anchorage and continue to be operated as Saint Andrew's Catholic Church. The patent for the lands is restricted by a reversionary clause. The lands are isolated, difficult and uneconomic for BLM to manage as part of the public lands and not needed for Federal purposes. The sale is consistent with BLM's land use planning for the area. The sale will further the original intent of the patent by facilitating the landowners' long-term growth and development goals.

Title to these lands was transferred to the Corporation of the Catholic Bishop of Juneau on October 6, 1960 (Pat. 1213492), using the Act of Congress of June 14, 1926 (44 Stat. 741: 43 U.S.C. 869), as amended by the Recreation and Public Purpose Act of June 4, 1954 (68 Stat. 173), and September 21, 1959 (73 Stat. 751), (the Act) as the authority for the transfer. The patent is subject to a reversionary clause as required by the Act. The subject lands, lots 7 and 11, comprise two of the 13 lots owned by the church in this location. Lots 7 and 11 are the only lots that contain a reversionary clause. The church has fee title to the remaining properties that surround lots 7 and 11. The patent, when issued, will be for the reversionary interest only. All other terms and conditions of Patent No. 1213492 will continue to apply.

For a period of 45 days from the date of publication of this Notice, interested parties may submit comments regarding the proposed direct sale of the reversionary interest to the BLM Anchorage Field Office Manager at the address above. Adverse comments will be evaluated and could result in the modification or vacation of this decision. The reversionary interest will not be offered for conveyance until at least 60 days after the date of this Notice.

Any written comments received during this process, as well as the commenter's name and address, will be available to the public in the administrative record and/or pursuant to Freedom of Information Act requests. You may indicate for the record that you do not wish to have your name and/or address made available to the public. Any determination by the BLM to release or withhold the names and/or addresses of those who comment will be made on a case-by-case basis. A request from a commenter to have name or address withheld from public release will be honored to the extent permissible by law.

Dated: January 22, 2007.
Mike Zaidlicz,
Acting Field Manager.

[FR Doc. E7-2953 Filed 2-21-07; 8:45 am]

BILLING CODE 4310-JA-P